SURFACE TRANSPORTATION BOARD

[Docket No. FD 36196]

Delmarva Central Railroad Company—Change in Operator Exemption—Cassatt Management, LLC d/b/a Bay Coast Railroad

Delmarva Central Railroad Company (DCR), a Class III rail carrier, has filed a verified notice of exemption under 49 CFR 1150.41 to assume operations over an approximately 14.8-mile rail line owned by Canonie Atlantic Co. (CAC) on behalf of the Accomack-Northampton Transportation District Commission (ANTDC) from milepost 30.9 in Pocomoke City, Md., to milepost 45.7 in Hallwood, Va. (the Line).

DCR states that the Line has been operated by Cassatt Management, LLC d/b/a Bay Coast Railroad (BCR).¹ DCR states that BCR has ceased operation of the Line and does not object to the proposed change in operators. DCR has concurrently filed a petition for waiver of the 30-day period specified under 49 CFR 1150.42(b) to allow the exemption to become effective immediately.² According to DCR, a lease and operation agreement providing for its common carrier service on the Line is being finalized and executed.

¹ See Cassatt Management, LLC d/b/a Bay Coast R.R.—Lease & Operation Exemption—Canonie Atlantic Co. on behalf of ANTDC, FD 34818 (STB served Feb. 6, 2006).

² The petition for waiver will be addressed in a separate decision.

DCR states that the proposed lease and operation of the Line does not involve any provision or agreement that would limit future interchange with a third-party connecting carrier. DCR certifies that its projected annual revenues from freight operations will not result in the creation of a Class II or Class I rail carrier.

Under 49 CFR 1150.42(b), a change in operators requires that notice be given to shippers. DCR certifies that it has provided notice of the proposed change in operator to the shippers on the Line.³

³ DCR certifies that on May 17, 2018, it posted notice of the transaction at the workplace of the then-current BCR employees on the Line as required under 49 CFR 1150.42(e). DCR states that BCR employees are not represented by any labor union. In addition to waiver of the 30-day effective date requirement, DCR's petition seeks waiver of the full 60-day labor notice requirement, in order for the exemption to become effective immediately. As noted above, the petition for waiver will be addressed in a separate decision.

If the verified notice contains false or misleading information, the exemption is void ab initio. Petitions to revoke the exemption under 49 U.S.C. 10502(d) may be filed at any time. The filing of a petition to revoke will not automatically stay the effectiveness of the exemption.

An original and 10 copies of all pleadings, referring to Docket No. FD 36196, must be filed with the Surface Transportation Board, 395 E Street SW, Washington, DC 20423-0001. In addition, a copy of each pleading must be served on DCR's representative, Thomas J. Litwiler, Fletcher & Sippel LLC, 29 North Wacker Drive, Suite 920, Chicago, IL 60606-2832.

According to DCR, this action is excluded from environmental review under 49 CFR 1105.6(c) and from historic preservation reporting requirements under 49 CFR 1105.8(b)(1).

Board decisions and notices are available on our website at WWW.STB.GOV.

Decided: June 4, 2018. By the Board, Scott M. Zimmerman, Acting Director, Office of Proceedings.
Jeffrey Herzig,
Clearance Clerk.

[FR Doc. 2018-12308 Filed 6-6-18; 8:45 am]

BILLING CODE 4915-01-P